DEPARTMENT OF THE INTERIOR

Bureau of Land Management

[BLM_UT_FRN_MO4500170480]

Notice of Proposed Class II Reinstatement of Terminated Oil and Gas Leases UTU88835 and UTU88838, San Juan County, Utah

AGENCY: Bureau of Land Management, Interior.

ACTION: Notice.

SUMMARY: In accordance with the Mineral Leasing Act of 1920, as amended, ST Oil Company, LLC, Moore Energy LLC, Shoreline Company LLC, and Leaf River Resources LLC, filed a timely petition for reinstatement of oil and gas leases UTU88835 and UTU88838 for lands in San Juan County, Utah. The petition was accompanied by all required rentals and royalties accruing from April 1, 2018, the date of termination. No leases were issued that affect these lands. The Bureau of Land Management proposes to reinstate these leases.

FOR FURTHER INFORMATION CONTACT: Angela Wadman, Branch Chief, Fluid Minerals, Utah State Office, Bureau of Land Management, 440 West 200 South, Suite 500, Salt Lake City, Utah, 84101, phone: 801-539-4052, email: awadman@blm.gov. Individuals in the United States who are deaf, deafblind, hard of hearing, or have a speech disability may dial 711 (TTY, TDD, or TeleBraille) to access telecommunications relay services. Individuals outside the United States should use the relay services offered within their country to make international calls to the point-of-contact in the United States. The FRS is available 24 hours a day, 7 days a week, to leave a message or question with the above individual. You will receive a reply during normal business hours.

SUPPLEMENTARY INFORMATION: The lessees have agreed to the new lease terms:

• Original term and additional conditions of the lease;

• Increased rental of $20 per acre;

• Increased royalty of 20-⅔ percent;

• $151 cost of publishing this Notice; and

• $500 cost of administrative fee.

The leases include the following described lands in San Juan County, Utah:

UTU-88835

Salt Lake Meridian, Utah

T. 30 S., R. 23 E.,

Secs. 24 and 25;

Sec. 26, lots 1 thru 4, W½NE¼, E½NW¼, and W½SE¼;

Sec. 35, lots 1 thru 4, W½NE¼, and W½SE¼.

The area described contains 2007.56 acres, according to the official plats of the surveys of the said land, on file with the BLM.

UTU-88838

Salt Lake Meridian, Utah

T. 30 S., R. 24 E.,

Sec. 30;

Sec. 31, lots 1 and 2, and S½SE¼.

The areas described aggregate 797.38 acres, according to the official plat of the survey of the said lands, on file with the BLM.

The lessees have met all the requirements for reinstatement of the leases per Section 31(d) and (e) of the Mineral Leasing Act of 1920 as Amended. The BLM is proposing to reinstate the leases 30 days following publication of this notice, with the effective date of April 1, 2018, subject to the increased rental and royalty rates cited above.

Authority: 43 CFR 3108.2-3.

Gregory Sheehan,
BLM Utah State Director.

[FR Doc. 2023-24719 Filed 11-8-23; 8:45 am]

BILLING CODE 4331-25-P